DEPARTMENT OF HOUSING AND URBAN DEVELOPMENT

[Docket No. FR-4817-N-19]

Notice of Proposed Information Collection for Public Comment—Statement of Homeowner Obligations, Housing Choice Homeownership Voucher Program

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: December 16, 2003.

ADDRESSES: Interested persons are invited to submit comments regarding this proposal. Comments should refer to the proposal by name and/or OMB Control number and should be sent to: Mildred M. Hamman, Reports Liaison Officer, Public and Indian Housing, Department of Housing and Urban Development, 451 7th Street, SW., Room 4249, Washington, DC 20410-5000.

FOR FURTHER INFORMATION CONTACT: Mildred M. Hamman, (202) 708-0614, extension 4128. (This is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Proposal: Statement of Homeownership Obligations, Housing Choice Homeownership Voucher Program.

OMB Control Number: 2577-0169.

Description of the need for the information and proposed use: A Public Housing Agency (PHA) may use the Housing Choice Voucher program funding already under the Annual Contributions Contract (ACC) or new tenant-based housing voucher funding for rental or homeownership purposes. The PHA and family participating in the homeownership voucher program must execute a “statement of homeowner obligations” before housing assistance payments begin. The information provided will be reviewed by the PHA to further determine eligibility and ensure program compliance.

Agency form numbers, if applicable: HUD-52649.

Members of affected public: State and Local Governments, businesses or other for profits, individuals or households.

Estimation of the total number of hours needed to prepare the information collection including number of respondents, frequency of response, and hours of response: 400 PHAs, five families per year, one hour, 2000 hours reporting burden; 2000 families per year, .05, 100 hours; 400 PHAs maintaining records, .25, 100 hours recordkeeping burden. The total burden is 2,200 hours.

Status of the proposed information collection: Revision of a currently approved collection.

Authority: Section 3506 of the Paperwork Reduction Act of 1995, 44 U.S.C. Chapter 35, as amended.

Michael Liu,
Assistant Secretary for Public and Indian Housing.

BILLING CODE 4210-29-M

[FR Doc. 03-26249 Filed 10-16-03; 8:45 am]

BILLING CODE 4210-29-C